DEPARTMENT OF TRANSPORTATION

Federal Aviation Administration

14 CFR Part 39

[Docket No. 99-NE-11-AD; Amendment 39-11652; AD 2000-06-11]

RIN 2120-AA64

Airworthiness Directives; Turbomeca Makila 1 Series Turboshaft Engines

AGENCY: Federal Aviation Administration, DOT.

ACTION: Final rule.

SUMMARY: This amendment adopts a new airworthiness directive (AD), applicable to Turbomeca Makila 1 series turboshaft engines, that requires a one-time visual inspection of the scavenge and lubrication systems for obstruction due to coke deposits, then reconditioning of the engine oil system prior to return to service. This amendment is prompted by a report of an in-flight engine shutdown due to roller bearings contaminated by certain types of detergent oil. The actions specified by the proposed AD are intended to prevent in-flight engine shutdown due to roller bearing failure following oil contamination.

DATES: Effective June 12, 2000. The incorporation by reference of certain publications in this rule is approved by the Director of the Federal Register as of June 12, 2000.

ADDRESSES: The service information referenced in the rule may be obtained from Turbomeca, 40220 Tarnos, France; telephone (33) 05 59 64 40 00, fax (33) 05 59 64 60 80. This information may be examined at the FAA, New England Region, Office of the Regional Counsel, 12 New England Executive Park, Burlington, MA.

FOR FURTHER INFORMATION CONTACT: Glorianne Niebuhr, Aerospace Engineer, Engine Certification Office, FAA, Engine and Propeller Directorate, 12 New England Executive Park, Burlington, MA 01803-5299; telephone (781) 238-7132, fax (781) 238-7199.

SUPPLEMENTARY INFORMATION: A proposal to amend part 39 of the Federal Aviation Regulations (14 CFR part 39) to include an airworthiness directive (AD) that is applicable to Turbomeca Makila 1 series turboshaft engines was published in the Federal Register on December 8, 1999 (64 FR 68642). That action proposed to require a one-time visual inspection of the scavenge and lubrication systems for obstruction due to coke deposits, then reconditioning of the engine oil system prior to return to service. That action was prompted by report of an in-flight engine shutdown due to roller bearings contaminated by certain types of detergent oil. That condition, if not corrected, could result in an in-flight engine shutdown due to roller bearing failure following oil contamination.

Comments Received

Interested persons have been afforded an opportunity to participate in the making of this amendment. No comments were received.

Economic Analysis

There are approximately 1,076 engines of the affected design in the worldwide fleet. The FAA estimates that 5 engines installed on aircraft of U.S. registry would be affected by this AD, that it would take approximately 14 work hours per engine to accomplish the actions, and that the average labor rate is $60 per work hour. Based on these figures, the total cost impact of the AD on U.S. operators is estimated to be $4,200.

Regulatory Impact

This rule does not have federalism implications, as defined in Executive Order 13132, because it will not have a substantial direct effect on the States, on the relationship between the national government and the States, or on the distribution of power and responsibilities among the various levels of government. Accordingly, the FAA has not consulted with state authorities prior to publication of this rule.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects 14 CFR Part 39

Air Transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-06-11 Turbomeca: Amendment 39-11652. Docket 99-NE-11-AD.

Applicability: Turbomeca Makila 1A and 1A1 turboshaft engines, installed on but not limited to Aerospatiale AS 332 Super Puma, AS 532 Cougar, and SA 330 Puma helicopters.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent in-flight engine shutdown due to roller bearing failure following oil contamination, accomplish the following:

Inspection and Repair

(a) Within 25 hours time-in-service (TIS) after the effective date of this AD, accomplish the following:

(1) For engines that have been operated with 7.5 centistoke (cSt) oil for more than 100 hours TIS, and for engines whose operators can not show documentation that the engine has been operated with 7.5 cSt oil for 100 hours or less TIS, accomplish the following:

(i) Perform a one-time visual inspection of the scavenge and lubrication systems for obstruction due to coke deposits and repair as required, in accordance with section 2.A. and 2.B. of the ‘Instructions for incorporation’ section of Turbomeca Makila 1 Service Bulletin (SB) No. A298 71 0137, dated December 22, 1997.

(ii) Replace the oil with approved oil other than 7.5 cSt and then recondition and check the engine oil system in accordance with section 2.C. and 2.D.(1) Of Turbomeca Makila 1 SB No. A298 71 0137, dated December 22, 1997, prior to return to service.

(2) For engines that have been operated with 7.5 cSt oil for 100 hours or less TIS, replace the oil with approved oil other than 7.5 cSt and then recondition the engine oil system prior to return to service, in accordance with section 1.A.(2)(b) of Turbomeca Makila 1 SB No. A298 71 0137, dated December 22, 1997.

Alternative Method of Compliance

(b) An alternative method of compliance or adjustment of the compliance time that provides an acceptable level of safety may be used if approved by the Manager, Engine Certification Office. Operators shall submit their request through an appropriate FAA Principal Maintenance Inspector, who may add comments and then send it to the Manager, Engine Certification Office.

Note 2: Information concerning the existence of approved alternative methods of compliance with this airworthiness directive, if any, may be obtained from the Engine Certification Office.

Ferry Flights

(c) Special flight permits may be issued in accordance with sections 21.197 and 21.199 of the Federal Aviation Regulations (14 CFR 21.197 and 21.199) to operate the helicopter to a location where the requirements of this AD can be accomplished.

Incorporation by Reference

(d) The actions required by this AD shall be done in accordance with Turbomeca Makila 1 SB No. A298 71 0137, dated December 22, 1997. This incorporation by reference was approved by the Director of the Federal Register in accordance with 5 U.S.C. 552(a) and 1 CFR part 51. Copies may be obtained from Turbomeca, 40220 Tarnos, France; telephone (33) 05 59 64 40 00, fax (33) 05 59 64 60 80. This information may be examined at the FAA, New England Region, Office of the Regional Counsel, 12 New England Executive Park, Burlington, MA; or at the Office of the Federal Register, 800 North Capitol Street, NW, suite 700, Washington, DC.

(e) This amendment becomes effective on June 12, 2000.

Issued in Burlington, Massachusetts, on March 21, 2000.
David A. Downey,
Manager, Engine and Propeller Directorate, Aircraft Certification Service.

[FR Doc. 00-7761 Filed 4-10-00; 8:45 am]

BILLING CODE 4910-13-U